DEPARTMENT OF THE INTERIOR

Bureau of Indian Affairs

[2231A2100DD/AAKC001030/A0A501010.999900; OMB Control Number 1076-0111]

Agency Information Collection Activities; Submission to the Office of Management and Budget for Review and Approval; Payment for Appointed Counsel in Involuntary Indian Child Custody Proceedings in State Courts

AGENCY: Bureau of Indian Affairs, Interior.

ACTION: Notice of information collection; request for comment.

SUMMARY: In accordance with the Paperwork Reduction Act of 1995, we, the Bureau of Indian Affairs (BIA), are proposing to renew an information collection with revisions.

DATES: Interested persons are invited to submit comments on or before December 8, 2022.

ADDRESSES: Written comments and recommendations for the proposed information collection should be sent within 30 days of publication of this notice to www.reginfo.gov/public/do/PRAMain. Find this particular information collection by selecting “Currently under Review—Open for Public Comments” or by using the search function. Please provide a copy of your comments to Steven Mullen, Information Collection Clearance Officer, Office of Regulatory Affairs and Collaborative Action—Indian Affairs, U.S. Department of the Interior, 1001 Indian School Road NW, Suite 229, Albuquerque, New Mexico 87104; or by email to comments@bia.gov. Please reference OMB Control Number 1076-0111 in the subject line of your comments.

FOR FURTHER INFORMATION CONTACT: To request additional information about this ICR, please contact Johnna Blackhair, Acting Deputy Bureau Director, Indian Services, BIA by email at johnna.blackhair@bia.gov or by telephone at (202) 513-7641. Individuals in the United States who are deaf, deafblind, hard of hearing, or have a speech disability may dial 711 (TTY, TDD, or TeleBraille) to access telecommunications relay services. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 16, 2022 (87 FR 36342). We received one comment.

Comment: The Bureau should adopt forms to assist courts and attorneys in claiming payment. The provisions for payment of appointed counsel in ICWA cases should be expanded to include counsel for Tribes that can demonstrate a financial need. In the request for comment, it states that the Bureau receives two requests for payment from state courts per year under the section and estimates that the total annual time burden on state courts for these requests is six hours. Two applications for funding annually from throughout the country indicates that very little use is being made of the procedures set out in the regulations. If payment for appointed counsel is expanded, the process for appointment of counsel for tribes should be consistent with tribal sovereignty and autonomy. Congress should appropriate realistic funding for requests for reimbursement for the costs of appointed counsel. The Federal government should also consider allowing states to use funding provided under title IV-E of the Social Security Act to support providing appointed counsel to tribes to participate in cases governed by the Indian Child Welfare Act.

Agency Response to Comment: BIA appreciates this feedback and proposes to revise this information collection with a form to assist courts and attorneys in claiming payment.

As part of our continuing effort to reduce paperwork and respondent burdens, we are again soliciting comments from the public and other Federal agencies on the proposed ICR that is described below. We are especially interested in public comment addressing the following:

(1) Whether the collection of information is necessary for the proper performance of the functions of the agency, including whether the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BIA is seeking renewal of the approval for the information collection conducted under 25 CFR 23.13, implementing the Indian Child Welfare Act (25 U.S.C. 1901 et seq.). The information collection allows BIA to receive written requests by State courts that appoint counsel for an indigent Indian parent or Indian custodian in an involuntary Indian child custody proceeding when appointment of counsel is not authorized by State law. The applicable BIA Regional Director uses this information to decide whether to certify that the client in the notice is eligible to have his/her counsel compensated by the BIA in accordance with the Indian Child Welfare Act.

Proposed Revisions

BIA proposes to revise this information collection with a form to assist courts and attorneys in claiming payment.

Title of Collection: Payment for Appointed Counsel in Involuntary Indian Child Custody Proceedings in State Courts.

OMB Control Number: 1076-0111.

Form Number: None.

Type of Review: Revision of a currently approved collection.

Respondents/Affected Public: State courts.

Total Estimated Number of Annual Respondents: Two (2) per year.

Total Estimated Number of Annual Responses: Two (2) per year.

Estimated Completion Time per Response: Two (2) hours for reporting and one (1) for recordkeeping.

Total Estimated Number of Annual Burden Hours: Six (6) hours.

Respondent's Obligation: Required to obtain a benefit.

Frequency of Collection: On occasion.

Total Estimated Annual Nonhour Burden Cost: $0.

An agency may not conduct or sponsor and a person is not required to respond to a collection of information unless it displays a currently valid OMB control number.

The authority for this action is the Paperwork Reduction Act of 1995 (44 U.S.C. 3501 et seq.).

Steven Mullen,
Information Collection Clearance Officer, Office of Regulatory Affairs and Collaborative Action—Indian Affairs.

[FR Doc. 2022-24312 Filed 11-7-22; 8:45 am]

BILLING CODE 4337-15-P